DEPARTMENT OF HEALTH AND HUMAN SERVICES

National Institutes of Health

National Cancer Institute; Amended Notice of Meeting

Notice is hereby given of a change in the meeting of the National Cancer Institute Special Emphasis Panel, November 4, 2009, 8 a.m. to November 5, 2009, 5 p.m., Bethesda North Marriott Hotel & Conference Center, Montgomery County Conference Center Facility, 5701 Marinelli Road, North Bethesda, MD 20852 which was published in the Federal Register on August 21, 2009, 74FR42315.

This Federal Register Notice is being amended to reflect a change in the name of the committee to “Application of Emerging Technologies and Biospecimen Science for Cancer Research” and not as otherwise stated. The meeting is closed to the public.

Dated: October 1, 2009.
Jennifer Spaeth,
Director, Office of Federal Advisory Committee Policy.

[FR Doc. E9-24172 Filed 10-6-09; 8:45 am]

BILLING CODE 4140-01-P